DEPARTMENT OF TRANSPORTATION

Federal Aviation Administration

14 CFR Part 39

[Docket No. FAA-2010-0632; Directorate Identifier 2010-CE-025-AD; Amendment 39-16426; AD 2010-18-12]

RIN 2120-AA64

Airworthiness Directives; Robert E. Rust, Jr. Model DeHavilland DH.C1 Chipmunk 21, DH.C1 Chipmunk 22, and DH.C1 Chipmunk 22A Airplanes

AGENCY: Federal Aviation Administration (FAA), DOT.

ACTION: Final rule; correction.

SUMMARY: The FAA is correcting an airworthiness directive (AD) that published in the Federal Register. That AD applies to the products listed above. The AD number in the 14 CFR Part 39 section and the § 39.13 [Amended] section is incorrect. This document corrects that error. In all other respects, the original document remains the same.

DATES: This AD remains effective October 7, 2010.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Carey O'Kelley, Aerospace Engineer, FAA, Atlanta Aircraft Certification Office (ACO), 1701 Columbia Avenue, College Park, Georgia 30337; telephone: (404) 474-5543; fax: (404) 474-5606; e-mail: carey.o'kelley@faa.gov.

SUPPLEMENTARY INFORMATION: Airworthiness Directive 2010-18-12, amendment 39-16426 (75 FR 53861, September 2, 2010), currently requires you to do a one-time inspection of the flap operating system for an unapproved latch plate design installation, with replacement as necessary for Robert E. Rust, Jr. Model DeHavilland DH.C1 Chipmunk 21, DH.C1 Chipmunk 22, and DH.C1 Chipmunk 22A airplanes.

As published, the AD number in the 14 CFR Part 39 section and § 39.13 [Amended] section is incorrect.

No other part of the preamble or regulatory information has been changed; therefore, only the changed portion of the final rule is being published in the Federal Register.

The effective date of this AD remains October 7, 2010.

Correction of Non-Regulatory Text

In the Federal Register of September 2, 2010, AD 2010-18-12; Amendment 39-16426 is corrected as follows:

On page 53861, in the 3rd column, on line 6 under 14 CFR Part 39, change “AD 2010-18-01” to “AD 2010-18-12.”

On page 53863, in the 1st column, on line 4 under § 39.13 [Amended], change “AD 2010-18-01” to “AD 2010-18-12.”

Issued in Kansas City, Missouri, on August 16, 2010.
William J. Timberlake,
Acting Manager, Small Airplane Directorate, Aircraft Certification Service.

[FR Doc. 2010-23745 Filed 9-22-10; 8:45 am]

BILLING CODE 4910-13-P